DEPARTMENT OF TRANSPORTATION

Federal Aviation Administration

Thirteenth Meeting: RTCA Special Committee 227, Standards of Navigation Performance

AGENCY: Federal Aviation Administration (FAA), U.S. Department of Transportation (DOT).

ACTION: Meeting Notice of RTCA Special Committee 227, Standards of Navigation Performance, Correction to FR Doc. 2015-01829.

SUMMARY: The FAA is issuing this notice to advise the public of the thirteenth meeting of the RTCA Special Committee 227, Standards of Navigation Performance

DATES: The meeting will be held March 16-20 from 9:00 a.m.-4:30 p.m.

ADDRESSES: RTCA Headquarters, 1150 18th Street NW., Suite 910, Washington, DC 20036.

FOR FURTHER INFORMATION CONTACT: The RTCA Secretariat, 1150 18th Street NW., Suite 910, Washington, DC 20036, or by telephone at (202) 330-0662 or (202) 833-9339, fax at (202) 833-9434, or Web site at http://www.rtca.org. In addition, Sophie Bousquet may be contacted directly at email: sbousquet@rtca.org.

SUPPLEMENTARY INFORMATION: Pursuant to section 10(a)(2) of the Federal Advisory Committee Act (Pub. L. 92-463, 5 U.S.C., App.), notice is hereby given for a meeting of Special Committee 227. The agenda will include the following:

March 16-20 2015

• Welcome/Introductions/Administrative Remarks.

• Agenda Overview.

• Overview of Planned Work Program for the Week.

○ Working Group 2 MOPS Change Proposals.

○ MOPS Draft Review.

○ SC-186 proposed addition to MASPS Appendix.

• Plenary Review/Discussion.

○ Planned Work Schedule (Note, schedule subject to change).

○ New tasking: Update to DO-257A, Electronic Map MOPS.

○ MOPS Change Proposals for Incorporation into draft MOPS.

○ 9:00 a.m. to 4:30 p.m. each day.

• Technical Requirements Breakout Sessions (as needed).

• Other Business.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 5th, 2015.
Mohannad Dawoud,
Management Analyst, NextGen, Program Oversight and Administration, Federal Aviation Administration.

[FR Doc. 2015-02876 Filed 2-11-15; 8:45 am]

BILLING CODE 4910-13-P